NATIONAL FOUNDATION ON THE ARTS AND THE HUMANITIES

National Endowment for the Arts; Notice of Submission of OMB Review; Comment Request

SUMMARY: The National Endowment for the Arts (“Endowment”) has requested that the Office of Management and Budget (OMB) approve reinstatement of an expired clearance for a series of collections of information under the Paperwork Reduction Act. The purpose of the information collections, which will be conducted through focus groups and short questionnaires administered to small, targeted audiences over a three year-period, is to help the Endowment assess the efficiency and effectiveness with which it serves its customers, and to design actions to address areas identified for improvement.

DATES: All comments must be submitted to OMB by March 11, 2002.

ADDRESSES: All written comments should be addressed to: Office of Information and Regulatory Affairs of OMB, Attention: Desk Officer for the National Endowment for the Arts, 725 17th Street, NW., Room 10235, Washington, DC 20503. The request for approval will be available for public inspection at the National Endowment for the Arts, room 628, 1100 Pennsylvania Avenue, NW., Washington, DC 20506-0001, between the hours of 9 a.m. and 5:30 p.m.

FOR FURTHER INFORMATION CONTACT: Laurence M. Baden, Deputy Chairman for Management & Budget, or Martha Jones, Management Analyst, National Endowment for the Arts, room 628, 1100 Pennsylvania Avenue, NW., Washington, DC 20506-0001, 202/682-5496 for TTY and TDD). (These are not toll-free numbers.)

SUPPLEMENTARY INFORMATION: The Paperwork Reduction Act of 1995 establishes policies and procedures for controlling the paperwork burdens imposed by Federal agencies on the public. The Act vests OMB with regulatory responsibility over these burdens, and OMB has promulgated rules on the clearance of collections of information by the Federal agencies.

Executive Order 12862, “Setting Customer Service Standards,” directs all executive departments and agencies that provide significant services directly to the public to render those services in a manner that seeks to meet the quality standard established in the executive order, i.e, to match or exceed the best practices in the private sector. E.O. 12862 agencies to consult with their customers as part of carrying out the specified customer service activities to achieve the goal.

The Endowment intends to establish mechanisms to explore issues of mutual concern (i.e., the kind and quality of desired services) with its primary external customers, including nonprofit arts organizations; artists; State, local, and special jurisdictional arts agencies; arts educators and arts service organizations.

Areas of concern to the Endowment and its customers will change over time, and it is important the Endowment be able to evaluate customer concerns quickly. Accordingly, the Endowment requests OMB to grant generic approval, for a three-year period, of focus groups and brief questionnaires targeting the Endowment's outside customer groups. Customer participation in these endeavors will be strictly voluntary.

The Endowment published a notice of intention to request OMB approval of these collections in the Federal Register August 29, 2001. No comments were received in response to the notice.

This voluntary collection of information will put a slight burden on an extremely small percentage of the public. The Endowment expects to convene three to six focus groups involving a total of about 120 persons during the three-year period, with a total annual burden of about 540 hours, including travel time. The Endowment also expects to administer brief questionnaires to approximately 180 persons during the three-year period, representing a total annual burden of about 10 hours if done apart from focus group meetings. If done in conjunction with a focus group, a small fraction of the 540 hours would be allotted to participants' completion of a short written questionnaire.)

Issued in Washington, DC, February 4, 2002, by,
Murray Welsh,
Director of Administrative Services, National Endowment for the Arts.

[FR Doc. 02-3042 Filed 2-7-02; 8:45 am]

BILLING CODE 7536-01-M